DEPARTMENT OF HEALTH AND HUMAN SERVICES

Health Resources and Services Administration

Recruitment of Clinicians To Become Commissioned Officers; Recruitment of Sites for Assignment of Commissioned Officers

AGENCY: Health Resources and Services Administration (HRSA), HHS.

ACTION: General notice.

SUMMARY: The Health Resources and Services Administration (HRSA) announces that applications will be accepted to recruit clinicians who will be hired as commissioned officers in the U.S. Public Health Service. This notice also solicits applications from sites that are seeking the assistance of these commissioned officers. These commissioned officers will be family practice physicians and dentists. They will be assigned by the National Health Service Corps (NHSC) to the neediest Health Professional Shortage Areas throughout the Nation. The NHSC will pay the salaries, moving expenses and benefits for these commissioned officers.

These officers will be part of a mobile cadre of health care professionals, who, in addition to the services they will provide to patients at their assigned sites, may be called upon to respond to regional and/or national emergencies. The NHSC will assist the officers in acquiring, maintaining and enhancing emergency response skills. Their initial assignments will be no longer than three years in duration, after which, should these clinicians choose to stay in the U.S. Public Health Service, they will progress to new assignments.

Eligible Applicants

Clinicians—Applicants must file a U.S. Public Health Service Commissioned Corps application, meet the requirements for such commissioning, have completed a Family Practice residency or dental school (prior to the start of the assignment), have successfully passed the Family Practice board certification or a regional dental licensing exam (prior to the start of the assignment) and have a current, unrestricted license to practice medicine or dentistry in at least one U.S. State or Territory.

Sites—Applicants must be located in a Health Professional Shortage Area (HPSA) and submit a Proposal for Use of a Commissioned Officer 2003 (and, if not yet approved as an NHSC site, a Recruitment and Retention Assistance Application). All sites to which NHSC clinicians are assigned must accept assignment under Medicare, have appropriate agreements with the applicable State entity to participate in Medicaid and the State Children's Health Insurance Program, see all patients regardless of their ability to pay, and use and post a discounted fee plan. Sites must also understand and accept that these officers will periodically be away from their assigned locations as they train for, or respond to, a regional and/or national health emergency.

Application Requests, Dates and Addresses

Application materials are available for downloading via the Web at: http://nhsc.bhpr.hrsa.gov.

Clinicians—Completed applications must be postmarked or delivered to the HRSA Commissioned Corps Operations Office by no later than September 30, 2003. Clinicians are encouraged to submit an application early, as applications will be considered as soon as they are received. Completed applications should be mailed or delivered to: HRSA Commissioned Corps Operations Office, Parklawn Building, Room 13A-22, 5600 Fishers Lane, Rockville, MD 20857. Applications received or postmarked after the deadline date or sent to a different address will be returned to the applicant and not considered.

Sites—Completed applications must be postmarked or delivered to the NHSC by no later than September 30, 2003. Site applications will be evaluated as soon as they are received at NHSC headquarters. Sites will be deemed qualified based on the quality of the application submitted and the score of the HPSA in which they are located, with preference being given to sites in HPSAs with higher scores. Officers will then be assigned to qualified sites on an ongoing basis. Sites are encouraged to apply early so as to have a better chance of acquiring one of the commissioned officers. The number of qualified sites is expected to exceed the limited supply of commissioned officers. Completed site applications should be mailed or delivered to: National Health Service Corps, Parklawn Building, Room 8A-55, 5600 Fishers Lane, Rockville, MD 20857. Applications received or postmarked after the deadline date or sent to a different address will be returned to the applicant and not considered.

Additional Information

Eligible clinicians and sites interested in receiving application material may do so by calling the National Health Service Corps call center at 1-800-221-9393.

Dated: May 2, 2003.
Dennis P. Williams,
Deputy Administrator.

[FR Doc. 03-11499 Filed 5-8-03; 8:45 am]

BILLING CODE 4165-15-M